DEPARTMENT OF EDUCATION

[Docket No.: ED-2015-ICCD-0074]

Agency Information Collection Activities; Submission to the Office of Management and Budget for Review and approval; Comment Request; Mandatory Civil Rights Data Collection

AGENCY: Office of Civil Rights (OCR), Department of Education (ED).

ACTION: Notice.

SUMMARY: In accordance with the Paperwork Reduction Act of 1995 (44 U.S.C. chapter 3501 et seq.), ED is proposing a revision of an existing information collection.

DATES: Interested persons are invited to submit comments on or before October 14, 2015.

ADDRESSES: To access and review all the documents related to the information collection listed in this notice, please use http://wwww.regulations.gov by searching the Docket ID number ED-2015-ICCD-0074. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: For specific questions related to collection activities, please contact Rosa Olmeda, 202-453-5968.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Mandatory Civil Rights Data Collection

OMB Control Number: 1870-0504

Type of Review: A revision of an existing information collection.

Respondents/Affected Public: State, Local and Tribal Governments

Total Estimated Number of Annual Responses: 17, 620

Total Estimated Number of Annual Burden Hours: 1,520,260

Abstract: The collection, use and reporting of education data is an integral component of the mission of the U.S. Department of Education (ED). EDFacts, an ED initiative to put performance data at the center of ED's policy, management, and budget decision-making processes for all K-12 education programs, has transformed the way in which ED collects and uses data. For school years 2009-10 and 2011-12, the Civil Rights Data Collection (CRDC) was approved by OMB as part of the EDFacts information collection (1875-0240). For school years 2013-14 and 2015-16, the Office for Civil Rights (OCR) cleared the CRDC as a separate collection from EDFacts. OCR used the most current EDFacts information collection approved by OMB (1875-0240) as a model for the 2013-14 and 2015-16 CRDC information collection that was approved by OMB (1870-0504) in February 2014. Similarly, the currently proposed revised CRDC information collection for school year 2015-16 is modeled after the most recent OMB-approved EDFacts information collection. Except for a few data elements that were revised based on recommendations received from various school districts and advice received from experts across ED, the currently proposed CRDC information collection for school year 2015-16 is identical to the information collection for school year 2015-16 that was approved by OMB in February 2014. As with previous CRDC collections, the purpose of the 2015-16 CRDC is to obtain vital data related to the civil rights laws' requirement that public local educational agencies and elementary and secondary schools provide equal educational opportunity. ED seeks OMB approval under the Paperwork Reduction Act to collect from school districts, the elementary and secondary education data described in the sections of Attachment A.

Dated: September 9, 2015.
Stephanie Valentine,
Acting Director, Information Collection Clearance Division, Office of the Chief Privacy Officer, Office of Management.

[FR Doc. 2015-23002 Filed 9-11-15; 8:45 am]

BILLING CODE 4000-01-P